DEPARTMENT OF TRANSPORTATION

Federal Aviation Administration

14 CFR Part 39

[Docket No. FAA-2010-0220; Directorate Identifier 2008-NM-166-AD]

RIN 2120-AA64

Airworthiness Directives; Fokker Services B.V. Model F.28 Mark 0070 and 0100 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: Due to their position on the airplane, fuel fire shut-off valve actuators P/N [part number] 9409122 are susceptible to freezing, which has an adverse effect on the operation of the valve. Also, due to various causes, the failure rate of [fuel fire shut-off valve] actuator P/N 9409122 is higher than expected. Failure or freezing of the actuator may prevent the flight crew to close the fuel fire shut-off valve in case of an engine fire. Due to their position on the aeroplane, fuel crossfeed valve actuators P/N 9409122 are susceptible to freezing, which has an adverse effect on the operation of the valve. This condition, if not corrected, may generate fuel asymmetry alerts when a valve remains in the open position after being selected closed. It may also prevent the flight crew from correcting a fuel asymmetry when a valve remains in the closed position after being selected open. One event was reported where, due to such problems, the flight crew shut down an engine in-flight and diverted the aircraft. [D]ue to their position on the aircraft, ice may form on actuators P/N 9409122 installed on fuel crossfeed valves and fuel fire shut-off valves. Tests revealed that the ice can prevent the actuator and thus the valve from operating in flight (frozen stuck).

The proposed AD would require actions that are intended to address the unsafe condition described in the MCAI.

DATES: We must receive comments on this proposed AD by April 23, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2010-0220; Directorate Identifier 2008-NM-166-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directives 2009-0168, dated August 3, 2009; 2009-0116, dated May 29, 2009; and 2007-0122, dated May 3, 2007 (corrected May 7, 2007) (referred to after this as “the MCAI”); to correct an unsafe condition for the specified products. EASA AD 2007-0122 states:

In-service experience revealed that, due to their position on the aircraft, ice may form on actuators P/N 9409122 installed on fuel crossfeed valves and fuel fire shut-off valves. Tests revealed that the ice can prevent the actuator and thus the valve from operating in flight (frozen stuck). A new actuator is being developed by Fokker Services. However, an airworthiness assessment revealed that interim actions are required for actuators p/n 9409122 installed on fuel crossfeed valves and fuel fire shut-off valves until the new actuators are installed. Fokker Services have issued Service Bulletin (SB) SBF100-28-049 to introduce interim actions that will reduce the probability that fuel crossfeed and fuel fire shut-off valves equipped with actuators p/n 9409122 do not operate due to ice. The interim actions consist of an operational check of the actuators and the application of a grease layer on the actuators, followed by a weekly visual check of the applied grease layer and a 4-weekly operational check of the actuators.

For the reasons stated above, this Airworthiness Directive (AD) requires compliance with instructions contained in the referenced SB. This AD has been re-published to correct typographical errors in the ‘Remarks' section, where the word ‘Proposed’ should have been deleted.

EASA AD 2009-0116 states:

Due to their position on the aeroplane, fuel crossfeed valve actuators P/N 9409122 are susceptible to freezing, which has an adverse effect on the operation of the valve. This condition, if not corrected, may generate fuel asymmetry alerts when a valve remains in the open position after being selected closed. It may also prevent the flight crew from correcting a fuel asymmetry when a valve remains in the closed position after being selected open. One event was reported where, due to such problems, the flight crew shut down an engine in-flight and diverted the aircraft.

Aeroplanes with serial numbers 11244 through 11441 were delivered from the production line with actuators P/N 9401037 (“chimney type”) installed. However, on some aeroplanes, these actuators have subsequently been replaced in service with actuators P/N 9409122 (using mounting blocks P/N 7923505) on one or both fuel crossfeed valves. As a result, those aeroplanes are also affected by this unsafe condition.

To address and correct this unsafe condition, EASA issued AD 2008-0126 that required the replacement of all P/N 9409122 fuel crossfeed valve actuators in accordance with Fokker Services SBF100-28-046 with new actuators developed by the manufacturer Eaton Aerospace, P/N 53-0013, which have improved reliability and are less susceptible to freezing.

Following the introduction of actuator P/N 53-0013 in service, Eaton Aerospace reported manufacturing and design errors on actuators with P/N 53-0013. As a result of these errors, the top-cap of the actuator may become loose, possibly leading to actuator failure. Eaton Aerospace has eliminated these problems by introducing a new actuator P/N 53-0027 and Fokker Services have published SBF100-28-061 to introduce these improved actuators on aeroplanes.

As the compliance time of EASA AD 2008-0126 has not yet expired, both P/N 9409122 and P/N 53-0013 fuel crossfeed valve actuators can currently be installed on aeroplanes affected by this AD.

For the reasons described above, this EASA AD retains the requirements of AD 2008-0126, which is superseded, and adds the requirement to install the new P/N 53-0027 actuators. This AD also allows direct installation of P/N 53-0027 on aeroplanes that are still in pre-SBF100-28-046 configuration, provided this is done within the compliance time as established for that SB in AD 2008-0126 and retained by this new AD.

EASA AD 2009-0168 states:

Due to their position on the aeroplane, fuel fire shut-off valve actuators P/N 9409122 are susceptible to freezing, which has an adverse effect on the operation of the valve. Also, due to various causes, the failure rate of actuator P/N 9409122 is higher than expected. Failure or freezing of the actuator may prevent the flight crew to close the fuel fire shut-off valve in case of an engine fire.

Aeroplanes with serial numbers 11244 through 11441 were delivered from the production line with actuators P/N 9401037 (“chimney type”) installed. However, on some aeroplanes, these actuators have subsequently been replaced in service with actuators P/N 9409122 (using mounting blocks P/N 7923505) on one or both fuel fire shut-off valves. As a result, those aeroplanes are also affected by this unsafe condition.

To address and correct this unsafe condition, EASA issued AD 2008-0193, requiring the replacement of all P/N 9409122 fuel fire shut-off valve actuators with new actuators developed by the manufacturer Eaton Aerospace, P/N 53-0013, which have improved reliability and are less susceptible to freezing.

Following the introduction of actuator P/N 53-0013 in service, Eaton Aerospace reported manufacturing and design errors on actuators with P/N 53-0013. As a result of these errors, the top-cap of the actuator may become loose, possibly leading to actuator failure. Eaton Aerospace has eliminated these problems by introducing a new actuator P/N 53-0027 and Fokker Services have published SBF100-76-020 to introduce these improved actuators on aeroplanes.

As a consequence of EASA AD 2008-0193, both P/N 9409122 and P/N 53-0013 fuel fire shut-off valve actuators are currently installed on aeroplanes affected by this AD.

For the reasons described above, this EASA AD supersedes AD 2008-0193 and requires the installation of new P/N 53-0027 actuators. This AD also prohibits the installation of P/N 53-0013 actuators in accordance with SBF100-76-018 (which has been cancelled), as previously required by EASA AD 2008-0193.

You may obtain further information by examining the MCAI in the AD docket.

Relevant Service Information

Fokker Services B.V. has issued the service bulletins identified in the following table.

Table—Service Information
Fokker Service Bulletin— | Dated—
SBF100-28-046, including the drawings identified in the subsequent table, “Table—Drawings Included in Fokker Service Bulletin SBF100-28-046” | March 27, 2008.
SBF100-28-049 | April 3, 2007.
SBF100-28-061, including the drawings identified in the subsequent table, “Table—Drawings Included in Fokker Service Bulletin SBF100-28-061” | April 20, 2009.
SBF100-76-020, including the drawings identified in the subsequent table, “Table—Drawings Included in Fokker Service Bulletin SBF100-76-020, and including Fokker Manual Change Notification—Maintenance Documentation MCNM-F100-133, dated April 20, 2009” | April 20, 2009.

Table—Drawings Included in Fokker Service Bulletin SBF100-28-046
Fokker drawing— | Sheet— | Issue— | Dated—
W41194 | 007 | D | March 27, 2008.
W41194 | 008 | D | March 27, 2008.

Table—Drawings Included in Fokker Service Bulletin SBF100-28-061
Fokker Drawing— | Sheet— | Issue— | Dated—
W41194 | 007 | D | April 20, 2009.
W41194 | 008 | D | April 20, 2009.

Table—Drawings Included in Fokker Service Bulletin SBF100-76-020
Fokker drawing— | Sheet— | Issue— | Dated—
W41460 | 002 | Original | April 20, 2009.
W41460 | 003 | Original | April 20, 2009.
W59170 | 012 | AC | March 20, 2008.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 2 products of U.S. registry. We also estimate that it would take about 23 work-hours per product to comply with the basic requirements of this proposed AD. The average labor rate is $85 per work-hour. Required parts would cost about $29,800 per product. Where the service information lists required parts costs that are covered under warranty, we have assumed that there will be no charge for these costs. As we do not control warranty coverage for affected parties, some parties may incur costs higher than estimated here. Based on these figures, we estimate the cost of the proposed AD on U.S. operators to be $63,510, or $31,755 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V.: Docket No. FAA-2010-0220; Directorate Identifier 2008-NM-166-AD.

Comments Due Date

(a) We must receive comments by April 23, 2010.

Affected ADs

(b) None.

Applicability

(c) This AD applies to Fokker Services B.V. Model F.28 Mark 0070 and Mark 0100 airplanes, certificated in any category, all serial numbers, if an actuator having part number (P/N) 9409122 or (P/N) 53-0013 is installed on one or both fuel crossfeed valves or one or both fuel fire shut-off valves.

Subject

(d) Air Transport Association (ATA) of America Code 28 and 76: Fuel and Engine Controls, respectively.

Reason

(e) The mandatory continuing airworthiness information (MCAI) consists of three EASA ADs: 2007-0122, dated May 3, 2007 (corrected May 7, 2007); 2009-0116, dated May 29, 2009; and MCAI 2009-0168, dated August 3, 2009. EASA AD 2007-0122 states:

In-service experience revealed that, due to their position on the aircraft, ice may form on actuators P/N 9409122 installed on fuel crossfeed valves and fuel fire shut-off valves. Tests revealed that the ice can prevent the actuator and thus the valve from operating in flight (frozen stuck). A new actuator is being developed by Fokker Services. However, an airworthiness assessment revealed that interim actions are required for actuators P/N 9409122 installed on fuel crossfeed valves and fuel fire shut-off valves until the new actuators are installed. Fokker Services have issued Service Bulletin (SB) SBF100-28-049 to introduce interim actions that will reduce the probability that fuel crossfeed and fuel fire shut-off valves equipped with actuators p/n 9409122 do not operate due to ice. The interim actions consist of an operational check of the actuators and the application of a grease layer on the actuators, followed by a weekly visual check of the applied grease layer and a 4-weekly operational check of the actuators.

For the reasons stated above, this Airworthiness Directive (AD) requires compliance with instructions contained in the referenced SB. This AD has been re-published to correct typographical errors in the `Remarks' section, where the word `Proposed' should have been deleted.

EASA AD 2009-0116 states:

Due to their position on the aeroplane, fuel crossfeed valve actuators P/N 9409122 are susceptible to freezing, which has an adverse effect on the operation of the valve. This condition, if not corrected, may generate fuel asymmetry alerts when a valve remains in the open position after being selected closed. It may also prevent the flight crew from correcting a fuel asymmetry when a valve remains in the closed position after being selected open. One event was reported where, due to such problems, the flight crew shut down an engine in-flight and diverted the aircraft.

Aeroplanes with serial numbers 11244 through 11441 were delivered from the production line with actuators P/N 9401037 (“chimney type”) installed. However, on some aeroplanes, these actuators have subsequently been replaced in service with actuators P/N 9409122 (using mounting blocks P/N 7923505) on one or both fuel crossfeed valves. As a result, those aeroplanes are also affected by this unsafe condition.

To address and correct this unsafe condition, EASA issued AD 2008-0126 that required the replacement of all P/N 9409122 fuel crossfeed valve actuators in accordance with Fokker Services SBF100-28-046 with new actuators developed by the manufacturer Eaton Aerospace, P/N 53-0013, which have improved reliability and are less susceptible to freezing.

Following the introduction of actuator P/N 53-0013 in service, Eaton Aerospace reported manufacturing and design errors on actuators with P/N 53-0013. As a result of these errors, the top-cap of the actuator may become loose, possibly leading to actuator failure. Eaton Aerospace has eliminated these problems by introducing a new actuator P/N 53-0027 and Fokker Services have published SBF100-28-061 to introduce these improved actuators on aeroplanes.

As the compliance time of EASA AD 2008-0126 has not yet expired, both P/N 9409122 and P/N 53-0013 fuel crossfeed valve actuators can currently be installed on aeroplanes affected by this AD.

For the reasons described above, this EASA AD retains the requirements of AD 2008-0126, which is superseded, and adds the requirement to install the new P/N 53-0027 actuators. This AD also allows direct installation of P/N 53-0027 on aeroplanes that are still in pre-SBF100-28-046 configuration, provided this is done within the compliance time as established for that SB in AD 2008-0126 and retained by this new AD.

EASA AD 2009-0168 states:

Due to their position on the aeroplane, fuel fire shut-off valve actuators P/N 9409122 are susceptible to freezing, which has an adverse effect on the operation of the valve. Also, due to various causes, the failure rate of actuator P/N 9409122 is higher than expected. Failure or freezing of the actuator may prevent the flight crew to close the fuel fire shut-off valve in case of an engine fire.

Aeroplanes serial numbers 11244 through 11441 were delivered from the production line with actuators P/N 9401037 (“chimney type”) installed. However, on some aeroplanes, these actuators have subsequently been replaced in service with actuators P/N 9409122 (using mounting blocks P/N 7923505) on one or both fuel fire shut-off valves. As a result, those aeroplanes are also affected by this unsafe condition.

To address and correct this unsafe condition, EASA issued AD 2008-0193, requiring the replacement of all P/N 9409122 fuel fire shut-off valve actuators with new actuators developed by the manufacturer Eaton Aerospace, P/N 53-0013, which have improved reliability and are less susceptible to freezing.

Following the introduction of actuator P/N 53-0013 in service, Eaton Aerospace reported manufacturing and design errors on actuators with P/N 53-0013. As a result of these errors, the top-cap of the actuator may become loose, possibly leading to actuator failure. Eaton Aerospace has eliminated these problems by introducing a new actuator P/N 53-0027 and Fokker Services have published SBF100-76-020 to introduce these improved actuators on aeroplanes.

As a consequence of EASA AD 2008-0193, both P/N 9409122 and P/N 53-0013 fuel fire shut-off valve actuators are currently installed on aeroplanes affected by this AD.

For the reasons described above, this EASA AD supersedes AD 2008-0193 and requires the installation of new P/N 53-0027 actuators. This AD also prohibits the installation of P/N 53-0013 actuators in accordance with SBF100-76-018 (which has been cancelled), as previously required by EASA AD 2008-0193.

Compliance

(f) You are responsible for having the actions required by this AD performed within the compliance times specified, unless the actions have already been done.

Inspections and Tests for Fuel Crossfeed Valves and Fuel Fire Shut-Off Valves

(g) For airplanes with an actuator having P/N 9409122 on one or both fuel crossfeed valves or one or both fuel fire shut-off valves: Within 30 days after the effective date of this AD, perform an operational test of, and application of grease on, the left-hand (LH) and right-hand (RH) fuel crossfeed valve actuators and fuel fire shut off valve actuators, in accordance with Part 1 of the Accomplishment Instructions of Fokker Service Bulletin SBF100-28-049, dated April 3, 2007.

(h) For airplanes equipped with an actuator having P/N 9409122 on one or both fuel crossfeed valves or one or both fuel fire shut-off valves: Within 7 days after completion of the actions required by paragraph (g) of this AD, and thereafter at intervals not to exceed 7 days, perform a general visual inspection of the applied grease layer on the LH and RH fuel crossfeed valve actuators and fuel fire shut off valve actuators, in accordance with Part 2 of the Accomplishment Instructions of Fokker Service Bulletin SBF100-28-049, dated April 3, 2007. If the layer of grease on any valve actuator is found to be less than 2 to 3 millimeters, before further flight, reapply grease, in accordance with Part 1 of the Accomplishment Instructions of Fokker Service Bulletin SBF100-28-049, dated April 3, 2007.

(i) For airplanes equipped with an actuator having P/N 9409122 on one or both fuel crossfeed valves or one or both fuel fire shut-off valves: Within 28 days after completion of the actions required by paragraph (g) of this AD, and thereafter at intervals not to exceed 28 days, perform an operational test of the LH and RH fuel crossfeed valve actuators and fuel fire shut off valve actuators, in accordance with Part 3 of the Accomplishment Instructions of Fokker Service Bulletin SBF100-28-049, dated April 3, 2007.

(j) During any of the tests required by paragraphs (g) and (i) of this AD, if a fuel fire shut-off valve actuator fails the operational test, before further flight, do the action specified in paragraph (j)(1) or (j)(2) of this AD.

(1) Do the replacement specified in paragraph (l) of this AD.

(2) Replace the valve actuator with a serviceable part having P/N 9409122, using a method approved by either the Manager, International Branch, ANM-116, Transport Airplane Directorate, FAA; or the European Aviation Safety Agency (or its delegated agent).

Note 1: Guidance on replacing the valve actuator with a serviceable part is in the Fokker 70/100 Aircraft Maintenance Manual.

(k) During any of the tests required by paragraphs (g) and (i) of this AD, if a fuel crossfeed valve actuator fails the operational test, before further flight, do the action specified in paragraph (k)(1) or (k)(2) of this AD.

(1) Do the replacement specified in paragraph (o) of this AD.

(2) Replace the valve actuator with a serviceable part having P/N 9409122, using a method approved by either the Manager, International Branch, ANM-116, Transport Airplane Directorate, FAA; or the European Aviation Safety Agency (EASA) (or its delegated agent).

Note 2: Guidance on replacing the valve actuator with a serviceable part is in the Fokker 70/100 Aircraft Maintenance Manual.

Replacement of Fuel Fire Shut-Off Valves

(l) For airplanes equipped with an actuator having P/N 9409122 on one or both fuel fire shut-off valves: Except as required by paragraph (j) of this AD, within 15 months after the effective date of this AD, replace each fuel fire shut-off valve actuator having P/N 9409122 with a fuel fire shut-off valve actuator having P/N 53-0027 and accomplish the associated modifications, in accordance with Part 1A or 1B, as applicable, of the Accomplishment Instructions of Fokker Service Bulletin SBF100-76-020, dated April 20, 2009. After installation of fuel fire shut-off valve actuators having P/N 53-0027 on an airplane, the requirements of paragraphs (g), (h), and (i) of this AD no longer apply to the fuel fire shut-off valve actuators installed on that airplane.

(m) For airplanes equipped with an actuator having P/N 53-0013 on one or both fuel fire shut-off valves: Within 15 months after the effective date of this AD, replace each fuel fire shut-off valve actuator having P/N 53-0013 with a fuel fire shut-off valve actuator having P/N 53-0027, in accordance with Part 2 of the Accomplishment Instructions of Fokker Service Bulletin SBF100-76-020, dated April 20, 2009.

(n) As of the effective date of this AD, do not install a fuel fire shut-off valve actuator having P/N 53-0013 on any airplane.

Replacement of Fuel Crossfeed Valves

(o) For airplanes equipped with an actuator having P/N 9409122 on one or both fuel crossfeed valves: Do the actions specified in paragraph (o)(1) or (o)(2) of this AD.

(1) Except as specified in paragraph (k)(1) of this AD, within 12 months after the effective date of this AD, replace each fuel crossfeed valve actuator having P/N 9409122 with a fuel crossfeed valve actuator having P/N 53-0013, and before further flight, accomplish the associated modifications, in accordance with the Accomplishment Instructions of Fokker Service Bulletin SBF100-28-046, dated March 27, 2008; and do the replacement required by paragraph (p) of this AD at the time specified in paragraph (p) of this AD. After installing fuel crossfeed valve actuators having P/N 53-0013 on an airplane, the requirements of paragraphs (g), (h), and (i) of this AD no longer apply to the fuel crossfeed valve actuators installed on that airplane.

(2) Within 12 months after the effective date of this AD, replace each fuel crossfeed valve actuator having P/N 9409122 with a fuel crossfeed valve actuator having P/N 53-0027, in accordance with Part 1A or 1B, as applicable, of the Accomplishment Instructions of Fokker Service Bulletin SBF100-28-061, dated April 20, 2009. After installing fuel crossfeed valve actuators having P/N 53-0027 on an airplane, the requirements of paragraphs (g), (h), and (i) of this AD no longer apply to the fuel crossfeed valve actuators installed on that airplane.

(p) For airplanes equipped with an actuator having P/N 53-0013 on one or both fuel crossfeed valves: Within 18 months after the effective date of this AD, replace each fuel crossfeed valve actuator having P/N 53-0013 with a fuel crossfeed valve actuator having P/N 53-0027, in accordance with Part 2 of the Accomplishment Instructions of Fokker Service Bulletin SBF100-28-061, dated April 20, 2009. After installing fuel crossfeed valve actuators having P/N 53-0027 on an airplane, the requirements of paragraphs (g), (h), and (i) of this AD no longer apply to the fuel crossfeed valve actuators installed on that airplane.

(q) After accomplishing the actions specified in paragraph (p) of this AD, do not install any fuel crossfeed valve actuator having P/N 53-0013 on any airplane.

FAA AD Differences

Note 3: This AD differs from the MCAI and/or service information as follows: Although paragraph (5) of EASA AD 2007-0122, dated May 3, 2007, allows operating the airplane in accordance with the Master Minimum Equipment List (MMEL) Item 28-23-1 of MMEL Fokker 70/MMEL Fokker 100, paragraph (l) of this AD requires replacing affected valves before further flight.

Other FAA AD Provisions

(r) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(s) Refer to MCAI European Aviation Safety Agency Airworthiness Directives: 2009-0168, dated August 3, 2009, 2009-0116, dated May 29, 2009, and 2007-0122, dated May 3, 2007 (corrected May 7, 2007); and the Fokker service bulletins specified in Table 1 of this AD; for related information.

Table 1—Related Service Information
Fokker Service Bulletin— | Dated—
Fokker SBF100-28-046, including the drawings identified in the subsequent table, “Table—Drawings Included in Fokker Service Bulletin SBF100-28-046” | March 27, 2008.
SBF100-28-049 | April 3, 2007.
Fokker SBF100-28-061, including the drawings identified in the subsequent table, “Table—Drawings Included in Fokker Service Bulletin SBF100-28-061” | April 20, 2009.
Fokker SBF100-76-020, including the drawings identified in the subsequent table, “Table—Drawings Included in Fokker Service Bulletin SBF100-76-020” | April 20, 2009.

Issued in Renton, Washington, on March 2, 2010.
Suzanne Masterson,
Acting Manager, Transport Airplane Directorate, Aircraft Certification Service.

[FR Doc. 2010-5013 Filed 3-8-10; 8:45 am]

BILLING CODE 4910-13-P